DEPARTMENT OF HOMELAND SECURITY

Transportation Security Administration

Renewal of the Aviation Security Advisory Committee (ASAC)

AGENCY: Transportation Security Administration, DHS.

ACTION: Notice of committee renewal.

SUMMARY: The Transportation Security Administration (TSA) announces that the Aviation Security Advisory Committee (ASAC) was renewed on November 28, 2005. The Secretary of the Department of Homeland Security has determined that renewal of the ASAC is necessary and in the public interest in connection with the performance of duties of TSA. This determination follows consultation with the Committee Management Secretariat, General Services Administration (GSA), who is responsible for monitoring and reporting executive branch compliance with the Federal Advisory Committee Act (FACA).

FOR FURTHER INFORMATION CONTACT: Joseph Corrao, Designated Federal Official, Aviation Security Advisory Committee, Transportation Security Administration, 601 South 12th Street, Arlington, VA 22202-4220; telephone (571) 227-2980, e-mail joseph.corrao@dhs.gov.

SUPPLEMENTARY INFORMATION:

Background

Federal Advisory Committee Act

In 1972, the Federal Advisory Committee Act (FACA) (Pub. L. 92-463, 5 U.S.C., App) was enacted by Congress. FACA is the legal foundation defining how Federal advisory committees operate. The law has special emphasis on open meetings, chartering, public involvement, and reporting. Its purpose was to ensure that advice rendered to the executive branch by the various advisory committees, task forces, boards, and commissions formed over the years by Congress and the president, be both objective and accessible to the public. The Act not only formalized a process for establishing, operating, overseeing, and terminating these advisory bodies, but also created the Committee Management Secretariat, an organization whose task it is to monitor and report executive branch compliance with the Act. 5 U.S.C. App. 1, section 2(a).

When initially enacted, FACA assigned to the Office of Management and Budget (OMB) responsibility for Government oversight of advisory committees. In 1977, Executive Order 12024 transferred the advisory committee functions, as well as the statutorily mandated Committee Management Secretariat, from OMB to the General Services Administration (GSA). As part of its responsibility under FACA, GSA issues government-wide guidelines and regulations for Federal Advisory Committee Management. GSA's implementation regulations on FACA management may be found in 41 CFR part 102-3.

The Aviation Security Advisory Committee

TSA's Aviation Security Advisory Committee (ASAC) is a “discretionary” advisory committee. A discretionary advisory committee is one that is established under the authority of an agency head or authorized by statute. An advisory committee referenced in general (non-specific) authorizing language or Congressional committee report language is discretionary, and its establishment or termination is within the legal discretion of an agency head. Normally, a discretionary advisory committee's charter is terminated upon the expiration of a period not to exceed two years, unless renewed.

ASAC is a standing committee composed of Federal and private sector organizations that was chartered in 1989 by the Federal Aviation Administration in the wake of the crash of Pan American World Airways Flight 103 in 1988 over Lockerbie, Scotland. ASAC's purpose was to “develop * * * recommendations for the improvement of methods, equipment, and procedures to improve civil aviation security.”

On November 19, 2001, the Aviation and Transportation Security Act (ATSA) was signed into law, which among other things established the Transportation Security Administration (TSA) and transferred to it the responsibility for civil aviation security. Accordingly, sponsorship of ASAC was also transferred to TSA. Since taking on management of ASAC in August 2002, TSA has taken steps to focus the committee's efforts in directions that are relevant and useful to TSA's post-September 11 mission.

In 2003, TSA revised the ASAC charter, organizing ASAC's membership to better assure fair balance in terms of the points of view of those represented and the functions performed by the committee. The charter also standardizes membership renewal dates for public representatives, and continues to encourage participation by other interested government agencies.

The Aviation Security Advisory Committee Renewal

The renewal and use of the Aviation Security Advisory Committee are determined to be in the public interest in connection with the performance of duties imposed on TSA by law as follows:

Name of Committee: Aviation Security Advisory Committee.

Purpose and Objective: The Aviation Security Advisory Committee (ASAC) will examine areas of civil aviation security, as tasked by TSA, with the aim of developing recommendations for the improvement of civil aviation security methods, equipment, and procedures. ASAC recommendations are forwarded to the TSA Administrator for consideration in future rulemaking actions and security program amendments.

Balanced Membership Plans: ASAC is composed of the following organizations representing key constituencies affected by aviation security requirements:

• Victims of Terrorist Acts Against Aviation

• Law Enforcement and Security Experts

• Government Agencies

• Aviation Consumer Advocates

• Airport Tenants and General Aviation

• Airport Operators

• Airline Management

• Airline Labor

• Aircraft Manufacturers

• Air Cargo Representatives

Each private sector organization shall be appointed to membership in one, and no more than one, of the foregoing constituent categories. Apart from Federal Government, there shall be a maximum of three member organizations per membership category.

Duration: The committee's charter is effective November 28, 2005, upon filing, and expires November 28, 2007.

Responsible TSA Officials: Joseph Corrao, Designated Federal Official (DFO), Aviation Security Advisory Committee, Transportation Security Administration, 601 South 12th Street, Arlington, VA 22202-4220; telephone (571) 227-2980, e-mail joseph.corrao@dhs.gov.

Issued in Arlington, Virginia, on December 19, 2005.
Mike Restovich,
Assistant Administrator, Transportation Sector Network Management.

[FR Doc. 05-24400 Filed 12-22-05; 8:45 am]

BILLING CODE 4910-62-P